ENVIRONMENTAL PROTECTION AGENCY

[FRL OP-OFA-182]

Environmental Impact Statements; Notice of Availability

Responsible Agency: Office of Federal Activities, General Information 202-564-5632 or https://www.epa.gov/nepa.

Weekly receipt of Environmental Impact Statements (EIS)

Filed June 2, 2025 10 a.m. EST Through June 9, 2025 10 a.m. EST

Pursuant to CEQ Guidance on 42 U.S.C. 4332.

Notice: Section 309(a) of the Clean Air Act requires that EPA make public its comments on EISs issued by other Federal agencies. EPA's comment letters on EISs are available at: https://cdxapps.epa.gov/cdx-enepa-II/public/action/eis/search.

EIS No. 20250079, Final, BLM, NV, Spring Valley Mine Project, Review Period Ends: 07/14/2025, Contact: Robert Sevon 775-623-1502.

EIS No. 20250080, Draft, USAF, FL, SpaceX Starship-Super Heavy Operations at Cape Canaveral Space Force Station, Comment Period Ends: 07/28/2025, Contact: Ms. Molly Thrash 321-357-7050.

EIS No. 20250081, Draft Supplement, USN, HI, Surveillance Towed Array Sensor System Low Frequency Active Sonar Training and Testing in the Western North Pacific and Indian Oceans, Comment Period Ends: 07/28/2025, Contact: John Burke 808-471-1714.

Dated: June 9, 2025.
Nancy Abrams,
Associate Director, Office of Federal Activities.

[FR Doc. 2025-10807 Filed 6-12-25; 8:45 am]

BILLING CODE 6560-50-P